DEPARTMENT OF ENERGY

Federal Energy Regulatory Commission

[Docket No. RP02-237-001]

Kern River Gas Transmission Company; Notice of Compliance Filing

July 17, 2002.

Take notice that on July 11, 2002, Kern River Gas Transmission Company (Kern River) tendered for filing as part of its FERC Gas Tariff, Second Revised Volume No. 1, the following tariff sheets:

Substitute First Revised Sheet No. 127

Substitute First Revised Sheet No. 162

Substitute First Revised Sheet No. 163

First Revised Sheet No. 164

Substitute First Revised Sheet No. 841

First Revised Sheet No. 842

Kern River states that the purpose of this filing is to comply with the Commission's Letter Order dated June 27, 2002, by submitting revised tariff sheets to manually implement partial day recalls of released capacity, beginning on July 1, 2002.

Kern River states that it has served a copy of this filing upon each person designated on the official service list compiled by the Secretary in this proceeding.

Any person desiring to protest said filing should file a protest with the Federal Energy Regulatory Commission, 888 First Street, NE, Washington, DC 20426, in accordance with Section 385.211 of the Commission's Rules and Regulations. All such protests must be filed on or before July 24, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18542 Filed 7-22-02; 8:45 am]

BILLING CODE 6717-01-P